DEPARTMENT OF COMMERCE

Foreign-Trade Zones Board

[Docket 18-2001]

Foreign-Trade Zone 33—Pittsburgh, Pennsylvania; Application for Subzone, Sony Technology Center-Pittsburgh (Television Manufacturing Facilities) Mount Pleasant, Pennsylvania

An application has been submitted to the Foreign-Trade Zones Board (the Board) by the Regional Industrial Development Corporation of Southwestern Pennsylvania, grantee of FTZ 33, requesting special-purpose subzone status for the manufacturing and warehousing facilities of the Sony Technology Center-Pittsburgh (STC-P), located in Mount Pleasant, Pennsylvania. The application was submitted pursuant to the provisions of the Foreign-Trade Zones Act, as amended (19 U.S.C. 81a-81u), and the regulations of the Board (15 CFR part 400). It was formally filed on April 23, 2001.

The STC-P facility is comprised of three sites with 3,300 employees in Westmoreland County, Pennsylvania: Site 1 (633.64 acres, currently with 3,550,000 square feet, with a possible expansion of 458,330 square feet)—located at 1001 Technology Drive, Mount Pleasant, Pennsylvania; Site 2 (9.8 acres, 192,500 square feet)—located at the South Greensburg Commons at Huff and Parr Streets, Greensburg, Pennsylvania; and Site 3 (31.2 acres, 273,600 square feet)—located at the former Montgomery Wards Distribution Center on Route 119 in New Stanton, Pennsylvania.

STC-P indicates that it intends to manufacture, test, package, and warehouse under zone procedures unfinished and finished television sets (HTSUS 8528, duty free-5%), components of television sets (HTSUS 8540, 5.4%; HTSUS 7011, 5.2%), television tubes (HTSUS 8540, 3.3%-15%), specialty chemicals for the electronics industry (HTSUS 2916, 6.5%, HTSUS 3403, 6.5%) and thermal transfer ribbons (HTSUS 3921, 4.20%, HTS 9612, 8.2%). Foreign-sourced materials will account for, on average, 68% of the finished products value. STC-P indicates that the foreign sourced inputs would be as follows: Feldspar, salts of oxometallic or peroxometallic acids, hydrogen, silicates, other organo-inorganic compounds, glass frit, artificial graphite, polymers of vinyl chloride, polymers of vinyl acetate, polyacetals, silicones, self-adhesive sheets, rubber, packaging materials, glass parts of television tubes, pipe seal ribbon, screws, bolts, articles of aluminum, tungsten, electromagnets, heater evaporation coil, switches, relays, fuses, lenses, signaling glassware, base metal mountings, loudspeakers, unrecorded and recorded media, transmission apparatus, parts of televisions, electrical capacitors, electrical resistors, printed circuits, thin steel for aperture grilles (HTSUS 7209.18.2510 and 7211.23.6075), electrical filament, cathode ray tubes, diodes, transistors, electronic integrated circuits and microassemblies, insulated wire, EMI shields, natural graphite, microcrystalline wax, unsaturated and saturated acyclic monocarboxylic acids, glass parts for television, casein, lubricating preparations, polishes and creams, prepared glues, polymers of ethylene and vinyl acetate, amino-resins, ribbons for impressions. The application also indicates that the company may in the future import under FTZ procedures other materials used in the production of televisions, thermal transfer ribbons and specialty chemicals.

FTZ procedures would exempt STC-P from Customs duty payments on the foreign components used in export production. Some 17 percent of the plant's shipments are exported. On its domestic sales, STC-P would be able to choose the duty rates during Customs entry procedures that apply to finished products (duty free to 15%) for the foreign inputs noted above. However, the subzone plan indicates that certain manufacturing inputs, including cathode ray tubes, components of cathode ray tubes, stainless steel ribbon and pipe seal ribbon, will be admitted to the proposed subzone in privileged foreign status.

The majority of zone savings would involve choosing the duty rate on unfinished televisions (HTSUS 8528.12.0800—duty-free) rather than the rate for the primary foreign-sourced components: loudspeakers, transmission apparatus, electrical capacitors, electrical resistors, printed circuits, diodes, transistors and similar semiconductor devices, integrated circuits, insulated electric conductors, electrical insulators, insulating fittings and EMI shields (HTSUS 8518.29.8000, 8518.30.2000, 8525.30.9005, 8532.24.0020, 8533.10.0060, 8534.00, 8541, 8542, 8544.20.0000, 8546.90.0000, 8548.90.000 duty rate ranges from duty-free to 5.3%). Application of the unfinished television classification requires that cathode ray tubes be evaluated separately. The application indicates that STC-P will admit foreign materials for the cathode ray tubes made at the plant in privileged foreign status. The request indicates that the savings from FTZ procedures would help improve the plant's international competitiveness.

In accordance with the Board's regulations, a member of the FTZ Staff has been designated examiner to investigate the application and report to the Board.

Public comment on the application is invited from interested parties. Submissions (original and 3 copies) shall be addressed to the Board's Executive Secretary at the address below. The closing period for their receipt is July 2, 2001. Rebuttal comments in response to material submitted during the foregoing period may be submitted during the subsequent 15-day period (to July 2, 2001.

A copy of the application and the accompanying exhibits will be available for public inspection at each of the following locations:

U.S. Department of Commerce, Export Assistance Center, 2002 Federal Building, 1000 Liberty Avenue, Pittsburgh, PA 15222.

Office of the Executive Secretary, Foreign-Trade Zones Board, Room 4008, U.S. Department of Commerce, 14th and Pennsylvania Avenue, NW., Washington, DC 20230.

Dated: April 23, 2001.
Dennis Puccinelli,
Executive Secretary.

[FR Doc. 01-10860 Filed 4-30-01; 8:45 am]

BILLING CODE 3510-DS-P